DEPARTMENT OF TRANSPORTATION

Federal Aviation Administration

Civil Supersonic Aircraft Panel Discussion

AGENCY: Federal Aviation Administration (FAA), DOT.

ACTION: Notice of meeting participation.

SUMMARY: This notice advises interested persons that the FAA is participating in a panel session on civil supersonic aircraft research. The session will include presentations on current research programs and a question and answer session for attendees. The FAA is seeking to raise public awareness of the continuing technological advances in supersonic aircraft technology aimed at reducing the intensity of sonic boom.

DATES: The public session will take place on Sunday, March 1, 2009. The panel discussion is from 10 a.m. to 12 noon in Palm Springs, CA.

ADDRESSES: The symposium is sponsored by the University of California Davis Air Quality Research Center and it will be held at the Hilton Palm Springs Hotel, 400 East Tahquitz Canyon Way, Palm Springs, CA. Attendance is open to all interested parties, and there are no fees to attend this session.

FOR FURTHER INFORMATION CONTACT: Laurette Fisher, Office of Environment and Energy (AEE-100), Federal Aviation Administration, 800 Independence Avenue, SW., Washington, DC 20591; facsimile (202) 267-5594, telephone (202) 267-3561.

Background: Since March 1973, supersonic flight over land by civil aircraft has been prohibited in the United States. The Concorde was the only civil supersonic airplane that offered service to the United States, but that airplane is no longer in service.

The interest in supersonic aircraft technology has not disappeared. Current research is dedicated toward reducing the impact of sonic booms as they reach the ground, in an effort to make overland flight acceptable. Recent research has produced promising results for low boom intensity, and has renewed interest in developing supersonic civil aircraft that could be considered environmentally acceptable for supersonic flight over land.

The FAA led its first panel discussion entitled, “State of the Art of Supersonics Aircraft Technology—What has progressed in science since 1973,” in Chicago, IL on Friday, October 24, 2008, as part of the O'Hare Noise Compatibility Commission Symposium.

The FAA's second presentation and panel discussion will take place on Sunday, March 1, 2009, as part of the Annual University of California Symposium on Aviation Noise and Air Quality. It will be held at the Hilton Palm Springs Hotel, 400 East Tahquitz Canyon Way, Palm Springs, California.

The purpose of this panel session is to raise public awareness on advances in supersonic technology, and for the FAA, the National Aeronautics and Space Administration (NASA), and industry to get feedback from interested persons.

Public involvement is essential in any future definition of an acceptable new standard that would allow supersonic flights over land. We anticipate that this will be the second of many meetings informing the public on developments in the research of shaped sonic booms and other technical and environmental challenges that need to be addressed in developing a new supersonic airplane.

More information about the University of California Symposium can be found at: http://www.cevs.ucdavis.edu/Cofred/Public/Aca/ConfHome.cfm?confid=392.

Issued in Washington, DC, on February 6, 2009.
Carl E. Burleson,
Director of Environment and Energy.

[FR Doc. E9-2997 Filed 2-11-09; 8:45 am]

BILLING CODE 4910-13-P